DEPARTMENT OF DEFENSE

Office of Secretary of Defense

[DoD-2007-OS-0137]

Privacy Act of 1974; Systems of Records

AGENCY: Defense Commissary Agency, DOD.

ACTION: Notice to Add a New System of Records.

SUMMARY: The Defense Commissary Agency (DeCA) is proposing to add a system of records notice to its inventory of record systems subject to the Privacy Act of 1974 (5 U.S.C. 552a), as amended.

DATES: This action will be effective without further notice on January 28, 2008 unless comments are received that would result in a contrary determination.

ADDRESSES: Defense Commissary Agency, 1300 E Avenue, Fort Lee, VA 23801-1800.

FOR FURTHER INFORMATION CONTACT: Ms. Donna Williamson at (804) 734-8777.

SUPPLEMENTARY INFORMATION: The Defense Commissary Agency's notices for systems of records subject to the Privacy Act of 1974 (5 U.S.C. 552a), as amended, have been published in the Federal Register and are available from the address above.

The proposed system report, as required by 5 U.S.C. 552a(r) of the Privacy Act of 1974, as amended, was submitted on December 19, 2007, to the House Committee on Oversight and Government Reform, the Senate Committee on Homeland Security and Governmental Affairs, and the Office of Management and Budget (OMB) pursuant to paragraph 4c of Appendix I to OMB Circular No. A-130, 'Federal Agency Responsibilities for Maintaining Records About ‘Individuals,' dated December 12, 2000, 65 FR 239.

Dated: December 20, 2007.
L.M. Bynum,
Alternate OSD Federal Register Liaison Officer, Department of Defense.

Z0035-01

System name:

Financial Transaction Data.

System location:

Defense Commissary Agency, 1300 E Avenue, Fort Lee, Virginia, 23801-1800.

An official listing of locations can be obtained from the Program Management Office.

Categories of individuals covered by the system:

Active, reserve, and retired uniformed personnel of the military services; their surviving spouses and dependents; recipients of the Medal of Honor; selected military personnel of foreign nations; other organizations and activities of the United States Government and such other personnel and activities as approved by the Secretary of Defense.

Categories of records in the system:

Individual's name, address, method of payment, shipping address, email address, telephone number, Social Security Number (SSN), charge and debit card information and expiration date, and Credit Card Identification number (CCID).

Authority for maintenance of the system:

DoD 7000.14-R, Department of Defense Financial Management Regulations (FMRs) and E.O. 9397 (SSN).

Purpose(s):

To provide support of world-wide system of commissaries selling groceries and household goods to military service members, their families and other authorized recipients. The system will scan products barcodes, determine the product price, calculate the total amount owed by the customer, and accept payment by cash, check, and credit or debit card. In addition, the system has an internet shopping application, Virtual Commissary (VC) that provides the capability to expand the benefits to authorized patrons who do not have access to a commissary. It has the capability to take orders and payments from authorized customers and then forward the order to the appropriate location to be filled.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Virtual Commissary Suppliers/Companies that will take the information to fulfill customers' orders for merchandise (grocery and household items) purchased through the Virtual Commissary.

To the Department of Treasury for electric check processing and electronic funds transfers related to credit/debit card charges.

The DOD “Blanket Routine Uses” apply to this system of records.

Disclosure to consumer reporting agencies:

Disclosures pursuant to 5 U.S.C. 552a(b)(12) may be made from this system to ‘consumer reporting agencies’ as defined in the Fair Credit Reporting Act (14 U.S.C. 1681a(f)) or the Federal Claims Collection Act of 1966 (31 U.S.C. 3701(a)(3)). The purpose of this disclosure is to aid in the collection of outstanding debts owed to the Federal government, typically to provide an incentive for debtors to repay delinquent Federal government debts by making these debts part of their credit records.

The disclosure is limited to information necessary to establish the identity of the individual, including name, address, and Social Security Number; the amount, status, and history of the claim; and the agency or program under which the claim arose for the sole purpose of allowing the consumer reporting agency to prepare a commercial credit report.

Policies and practices for storing, retrieving, accessing, retaining, and disposing of records in the system:

Storage:

Paper records in file folders and electronic storage media.

Retrievability:

By individual's name, Social Security Number, MICR (Magnetic Ink Character Recognition), which is the number found on the bottom of check, and address.

Safeguards:

Access to records is limited to the custodian of the records or by persons responsible for servicing the records in the performance of their official duties. Records are stored in locked cabinets or rooms and controlled by personnel screening.

Computer terminals are located in supervised areas. Access to computerized data is controlled by password or other user authentication code systems. All electronic data is transmitted using approved, secured methods to ensure the data is protected while in transit.

Retention and disposal:

A minimum of six years and three months.

Manager(s) and address:

Program Director, Defense Commissary Agency, ATTN: Program Management Office, 1300 E Avenue, Fort Lee, Virginia, 23801-1800.

Notification procedure:

Individuals seeking to determine whether information about themselves is contained in this system of records should address written inquiries to the Defense Commissary Agency, ATTN: Program Management Office, 1300 E Avenue, Fort Lee, Virginia, 23801-1800.

Requests should contain individual's name and address, telephone, and email address.

Record access procedures:

Individuals seeking access to information about themselves contained in this system of records should address written inquiries to the Defense Commissary Agency, ATTN: Program Management Office, 1300 E Avenue, Fort Lee, Virginia, 23801-1800.

Requests should contain individual's name and address, telephone, email address, Social Security Number (SSN), and MICR (Magnetic Ink Character Recognition; number found on the bottom of check).

Contesting record procedures:

The Defense Commissary Agency rules for accessing records, for contesting contents, and for appealing initial agency determination can be obtained from the Privacy Act Officer, 1300 E. Avenue, Fort Lee, VA 23801-1800.

Record source categories:

Individual.

[FR Doc. E7-25286 Filed 12-27-07; 8:45 am]

BILLING CODE 5001-06-P